ENVIRONMENTAL PROTECTION AGENCY

40 CFR Part 52

[EPA-R05-OAR-2008-0684; FRL-9215-3]

Approval and Promulgation of Air Quality Implementation Plans; Ohio; Particulate Matter Standards

AGENCY: Environmental Protection Agency (EPA).

ACTION: Proposed rule.

SUMMARY: EPA is proposing to approve a request submitted by the Ohio Environmental Protection Agency on August 22, 2008, to revise the Ohio State Implementation Plan under the Clean Air Act. The State has submitted revisions to twelve rules and rescinded one rule in Ohio Administrative Code (OAC) Chapter 3745-17, “Particulate Matter Standards.” The revisions were submitted by Ohio EPA to satisfy the State's 5-year review requirements. The particulate matter (PM) standards contain the particulate emission control requirements that have been necessary to attain and maintain the 2006 National Ambient Air Quality Standards for PM in the State.

EPA is proposing to approve the revisions to nine of the OAC 3745-17 rules. EPA proposes approving only a portion of Rule 7, while not acting on the portion providing a partial exemption from opacity limits for a lime kiln in Woodville, Ohio. We are proposing to conditionally approve Rule 11 based on a commitment by Ohio to address EPA's concerns with the large item size exemptions. EPA is not acting on Rule 3, regarding opacity measurement methods. Lastly, EPA is proposing to approve the rescission of Rule 5 from the Ohio SIP.

DATES: Comments must be received on or before November 26, 2010.

ADDRESSES: Submit your comments, identified by Docket ID No. EPA-R05-OAR-2008-0684, by one of the following methods:

1. http://www.regulations.gov: Follow the on-line instructions for submitting comments.

2. E-mail: bortzer.jay@epa.gov.

3. Fax: (312) 692-2054.

4. Mail: Jay Bortzer, Chief, Air Programs Branch (AR-18J), U.S. Environmental Protection Agency, 77 West Jackson Boulevard, Chicago, Illinois 60604.

5. Hand Delivery: Jay Bortzer, Chief, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: October 4, 2010.
Susan Hedman,
Regional Administrator, Region 5.

[FR Doc. 2010-26883 Filed 10-25-10; 8:45 am]

BILLING CODE 6560-50-P